NUCLEAR REGULATORY COMMISSION

[IA-03-042]

In the Matter of Scott P. Wolfe; Order Prohibiting Involvement in Certain NRC-Licensed Activities (Effective Immediately)

I

Scott P. Wolfe held Nuclear Regulatory Commission (NRC) senior operator's license SOP-43723-1. The license authorized Mr. Wolfe to operate the Waterford-3 Steam Electric Station in accordance with the conditions of the license and 10 CFR part 55. The Waterford-3 Steam Electric Station is a nuclear power plant in Killona, Louisiana, and is operated by Entergy Operations, Inc., under the provisions of NRC operating license NPF-38.

II

On May 7, 1990, Mr. Wolfe tested positive for an illegal substance in response to a random fitness-for-duty test. The test results were confirmed positive on May 14, 1990. On June 1, 1990, Mr. Wolfe signed a “re-entry agreement” in which he agreed to participate in Entergy Operation, Inc.'s employee assistance program, agreed to abstain from the use of illegal drugs, agreed to periodic unannounced drug and alcohol testing, and confirmed his understanding that a second positive test for drugs or alcohol may result in his employment being terminated.

On July 17, 2003, Mr. Wolfe again tested positive for an illegal substance in response to a random fitness-for-duty test. The test results were confirmed positive on July 21, 2003. On July 25, 2003, Mr. Wolfe's employment with Entergy Operations, Inc., was terminated. On August 21, 2003, Entergy Operations, Inc., requested that Mr. Wolfe's NRC operator's license be terminated. On August 26, 2003, the NRC terminated Mr. Wolfe's senior operator's license.

III

The NRC holds licensed reactor operators to high performance standards and entrusts them with assuring the public health and safety in the operation of nuclear power plants. Licensed reactor operators are expected to comply with all NRC requirements, including the fitness-for-duty requirements of the NRC (10 CFR part 26) and the facility at which they are employed. Mr. Wolfe's actions have violated the NRC's and the public's trust and demonstrated that he can not be relied upon to comply with fitness-for-duty requirements.

Consequently, I lack the requisite reasonable assurance that licensed activities can be conducted in compliance with the Commission's requirements and that the health and safety of the public will be protected if Mr. Wolfe were permitted at this time to hold an NRC operator's license pursuant to 10 CFR part 55. Therefore, the public health, safety and interest require that Mr. Wolfe be prohibited from applying for or holding an NRC operator's license for a period of three years from the date of this Order. Furthermore, pursuant to 10 CFR 2.202, I find that the significance of Mr. Wolfe's conduct described above is such that the public health, safety and interest require that this Order be immediately effective.

IV

Accordingly, pursuant to sections 107, 161b, 161i, 161o, 182 and 186 of the Atomic Energy Act of 1954, as amended, and the Commission's regulations in 10 CFR 2.202, 10 CFR part 55, and 10 CFR part 26, it is hereby ordered, effective immediately, that: Scott P. Wolfe is prohibited for three years from the date of this Order from applying for or holding an NRC license to operate a nuclear power plant pursuant to 10 CFR part 55.

The Director, OE, may, in writing, relax or rescind any of the above conditions upon demonstration by Mr. Wolfe of good cause.

V

In accordance with 10 CFR 2.202, Scott P. Wolfe must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this Order and shall set forth the matters of fact and law on which Mr. Wolfe or other person adversely affected relies and the reasons as to why the Order should not have been issued.

Any answer or request for a hearing shall be submitted to the Secretary, U.S. Nuclear Regulatory Commission, Attn: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region IV, 611 Ryan Plaza Drive, Suite 400, Arlington, Texas 76011, and to Mr. Wolfe if the answer or hearing request is by a person other than Mr. Wolfe. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the licensee requests a hearing, that person shall set forth with particularity the manner in which his interest is adversely affected by this Order and shall address the criteria set forth in 10 CFR 2.714(d).

If a hearing is requested by Mr. Wolfe, or a person whose interest is adversely affected, the Commission will issue an Order designating the time and place of any hearing. If a hearing is held, the issue to be considered at such hearing shall be whether this Order should be sustained.

Pursuant to 10 CFR 2.202(c)(2)(i), Mr. Wolfe may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section IV above shall be final 20 days from the date of this Order without further order or proceedings. If an extension of time for requesting a hearing has been approved, the provisions specified in Section IV shall be final when the extension expires if a hearing request has not been received. An answer or a request for hearing shall not stay the immediate effectiveness of this Order.

Dated this 10th day of December, 2003.
For the Nuclear Regulatory Commission.
Samuel J. Collins,
Deputy Executive Director for Reactor Programs.

[FR Doc. 03-31955 Filed 12-29-03; 8:45 am]

BILLING CODE 7590-01-P